POSTAL SERVICE

39 CFR Part 111

Preparation Changes for Palletized Standard Mail (A) and Bound Printed Matter and for Standard Mail (A) and Standard Mail (B) Claimed at DBMC Rates

AGENCY: Postal Service.

ACTION: Final rule.

SUMMARY: This final rule sets forth the Domestic Mail Manual (DMM) standards adopted by the Postal Service requiring mailers to utilize one Labeling List (L605) for palletized mailings of Standard Mail (A) packages of flats, letter trays, and sacks prepared on pallets, regardless of whether the mail is prepared for entry at destination bulk mail center (DBMC) rates; to require mailers to utilize Labeling List L605 for Standard Mail (A) and Standard Mail (B) machinable parcels prepared in sacks or on pallets for pieces claimed at DBMC rates; to implement package reallocation between auxiliary service facilities (ASFs) and BMCs for Standard Mail (A) packages of flats placed on pallets; and to utilize Labeling List L605 for the preparation of all Standard Mail (B) that is claimed at DBMC rates and for Bound Printed Matter other than machinable parcels prepared on pallets.

DATES: Effective date: October 15, 2000. Compliance is optional as of October 15, 2000. Compliance will be required early January 2001 on a date to be announced in the Federal Register that coincides with implementation of the R2000 omnibus rate case.

FOR FURTHER INFORMATION CONTACT: Karen A. Magazino, (202) 268-3854 or Cheryl Beller, (202) 268-5166.

SUPPLEMENTARY INFORMATION: On January 4, 2000, the Postal Service published for public comment in the Federal Register a proposed rule (65 FR 264-270) to allow offshore mail to ride along on DBMC pallets (or in sacks of machinable parcels) drop shipped to destination BMCs.

In addition, the document also proposed requiring mailers to use Labeling List L605 for all Standard Mail (A) flats, letter trays, and sacks prepared on pallets, regardless of where the mail is deposited or the rates are claimed. L605 currently is used for BMC and Origin BMC (OBMC) Presort of nonmachinable Parcel Post discounts. L605 delineates the ASF service areas and also includes the ZIP Codes for the offshore destinations within their respective BMC service areas. With this final rule, the offshore mail will “ride along” with the mail that is eligible for DBMC rate but will not be eligible for the DBMC discount. The benefit is that offshore mail will bypass the origin BMC and should receive better service. The three BMCs that presently service offshore destinations (New Jersey, San Francisco, and Seattle) already are receiving BMC service area pallets and sacks that contain offshore mail prepared using Labeling List L601. Therefore, the addition of offshore mail to these DBMC containers should have no negative impact.

Requiring the use of Labeling List L605 for all Standard Mail (A) flats, letter trays, and sacks prepared on pallets regardless of whether DBMC rates are claimed also will ensure that the eight ASFs always are included in the presort logic hierarchy and that ASF pallets are prepared when the volume warrants.

Labeling List L601 will be retained and will continue to be applicable for Standard Mail (A) and Standard Mail (B) machinable parcels, except when DBMC rates are claimed for such mail deposited at ASFs.

Current Labeling List L602, which contains the ZIP Code ranges for DBMC rate eligibility, will be deleted from the DMM. This information will appear, instead, in DMM Module E. This Final Rule does change current standards for DBMC rate eligibility. However, DMM E651.5.0 has been revised to reorganize and clarify eligibility requirements for Standard Mail (A) DBMC discounts.

Package Reallocation To Protect the BMC Pallet

To ensure that the creation of an ASF pallet does not take away from BMC pallets, the Postal Service will allow protection of the BMC pallet through the optional use of package reallocation between a “child” ASF and the “parent” BMC pallet. Package reallocation for protecting a BMC pallet is similar to the option implemented on July 29, 1999, for protecting the SCF pallet. In protecting a BMC pallet, any amount of mail necessary to achieve the minimum BMC pallet weight could be reallocated from one ASF pallet and the ASF pallet could be eliminated if necessary. Mailers who choose to utilize package reallocation to protect the BMC pallet must use PAVE-certified presort software.

Utilization of Labeling Lists L601 and L605 for Preparation of Standard Mail (B)

Rather than sorting to L601, palletized Bound Printed Matter (other than machinable parcels) will be required to be prepared using L605 for sortation of mail to both BMC and ASF pallets. L601 will continue to be used for sortation of Bound Printed Matter machinable parcels both in sacks and on pallets.

The elimination of Labeling List L602 affects Parcel Post (Parcel Select) claimed at DBMC rates. Rather than using L602 for both DBMC rate eligibility and mail preparation, Parcel Post (Parcel Select) mailers claiming DBMC rates must sort to and deposit mail at a BMC or ASF using L605. However, eligibility for the DBMC rates (which does not change) will be determined using new DMM Exhibit E652.1.3d. For Parcel Post (Parcel Select) machinable parcels, mailers claiming the DBMC rates may continue the current practice of opting to sort mail using L601 (BMC sortation only) under the condition that mail for 3-digit ZIP Codes served by an ASF in Exhibit E652.1.3d is not eligible for DBMC rates, nor is mail for 3-digit ZIP Codes that do not appear on Exhibit E652.1.3d.

L605 will continue to be used for BMC Presort and OBMC Presort mailings of nonmachinable Parcel Post. L601 will continue to be required for machinable parcels claiming BMC Presort and OBMC Presort rates.

Summary of Comments From the Proposed Rule

The Postal Service received three pieces of correspondence commenting on the Proposed Rule. Respondents included one mailer and two direct marketing companies.

The specific points raised in the comments are presented below, organized by general comments and by specific comments on particular issues. In addition to receiving these comments from the mailing industry, the Postal Service has had extensive ongoing exchanges of viewpoints with representatives of the mailing industry and software vendors. This cooperative effort has led to the development of revised standards that the Postal Service believes strikes a better balance between the interests of the mailers and those of the Postal Service.

1. General Comments

Two comments were received indicating that the elimination of L602 will create a positive effect in the data processing area by using one labeling list for packages of flats, letter trays, and sacks prepared on pallets. Commenters further explained that it is better to use one list for identifying where the mail is going independent of the drop shipment process. One mailer asked if the elimination of L602 was required to implement this rule. The elimination of L602 is necessary because mail for offshore destinations is not entitled to the DBMC rate, these ZIPS are not included in L602, and mail for offshore destinations currently cannot be placed on DBMC pallets. Furthermore, when a mailer is sorting a list for entry at DBMC rates using this list, the offshore mail will be entered at the origin BMC and must be processed at the origin BMC and transported through the postal network to the destinating BMC that serves the offshore ZIP Codes. In addition, the offshore mail is frequently placed in sacks because it cannot be placed on DBMC pallets.

One commenter indicated that the creation of the ASF pallet, when volume warrants regardless of whether or not the mail is prepared for entry at the DBMC rates, should have a positive effect on their manufacturing area. Currently, if mail is prepared for DBMC rates and drop shipment is not utilized, then the pallet label must be changed to the appropriate BMC destination. Under this final rule, this would not happen and labor costs could be saved.

2. Eligibility of Offshore Destination Mail for the DBMC Discount

Two comments were received from direct marketing companies proposing that the offshore destinations that “ride-along” with the DBMC mail be eligible for the DBMC discount. The commenters also indicated that their customers would be paying freight costs to move these pieces, and will be preparing mail to enter the postal system further into the process, but will not be compensated by receiving the DBMC discount. The Postal Service cannot extend the DBMC discount for offshore destinations. The Postal Service needs the rates to fully reflect the true processing costs when offering a discount. This mail is unusual in its origin-destination characteristics and does not necessarily comply with the existing destination entry discount structure. The Postal Service still incurs significant transportation costs while moving the mail to the offshore destinations. In addition, the Postal Service does not want to discourage mailers from taking advantage of the DSCF discounts that are available. Sectional center facility mail entered at these offshore destinations might revert to DBMC entry if the DBMC discount was offered.

3. No Discounts for ASF Mail on BMC Pallets

One commenter was concerned that a discount does not exist for ASF mail on BMC pallets. If the discount requirements were more clearly documented, drop ship mailers could evaluate the costs and benefits of paying transportation costs for the ASF mail. The Postal Service would like to emphasize that the eligibility of ASF mail to qualify for the DBMC discount has not changed. ASF pallets are allowed and required only if the DBMC rate is claimed for mail deposited at the ASF. The significant change resulting from this final rule is that DMM E651 Exhibit 5.1 and DMM E652 Exhibit 1.3 will be used to determine eligibility, not Labeling List L602. If packages of flats on pallets are reallocated from an ASF pallet to a BMC pallet under M045.6.0, mail for the ASF ZIP Codes placed on the BMC pallet are not eligible for the DBMC rates.

4. Machine-Readable List for Section E and the Parent/Child BMC/ASF Table

One commenter stated that if L602 (which lists the ZIP Codes entitled to the DBMC discount) is moved from module L to module E, then the Postal Service must still provide a machine-readable list of these ZIP Codes. This commenter maintains if this list is not provided in machine-readable form, then the authors of computer presort and entry point analysis software, such as PAVE-certified software and Mail.dat application software, would each be required to key in updates by hand from a hard-copy printed list. Manual updates also could create an unacceptable amount of redundant work and would create an environment prone to numerous errors. This commenter also stated the Parent/Child BMC/ASF table should be made available in machine-readable form because the proposed changes for the protected BMC pallets will make this information increasingly important to authors of PAVE-certified and Mail.dat application software. The Postal Service has had extensive ongoing discussions with representatives from the USPS National Customer Support Service center and Distribution Networks at USPS headquarters. To address this concern the Postal Service will provide an electronic product to mailers of the Parent/Child table and the new Module E eligibility tables. The Postal Service believes that this effort strikes a better balance between the interests of the mailers and their concerns and the needs of the Postal Service to provide high quality service and optimize operational efficiency.

5. Package Reallocation

One commenter emphasized that the package reallocation options should be clearly stated. To clarify the package reallocation option, the Postal Service will review the DMM language for clarification purposes. In addition, a new Quick Service Guide will be designed to demonstrate the standards for package reallocation, protecting the SCF or BMC pallet level. Package reallocation will remain optional and if performed must be done for the complete mailing job using PAVE-certified software.

6. Lead Time for Software Vendors

One commenter indicated that the lead time for software changes should be factored into the implementation schedule. For the required elements, the Postal Service met with the software vendors and mailers to discuss this concern. Based on the comments received the Postal Service has determined to place all the provisions of this final rule into effect on an optional basis on October 15, 2000. The required provisions of this final rule will be required on the same date that new rules are implemented for the R-00 Omnibus Rate Case (expected in January 2001). Mail presented on and after that effective date must be prepared in accordance with the required provisions of this Final Rule. Generally, requests for exceptions to these required preparation standards on or after the implementation date will not be honored if the reason for the request is that software was not available to mailers in time to prepare the mailings. It is expected that this phased implementation period will provide software vendors and mailers enough time to develop, test, and implement the required provisions so that the mailings entered on or after the effective date will be prepared under these new standards.

List of Subjects in 39 CFR Part 111

Administrative practice and procedure, Postal Service.

For the reasons discussed above, the Postal Service hereby adopts the following amendments to the Domestic Mail Manual, which is incorporated by reference in the Code of Federal Regulations (see 39 CFR part 111).

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

Domestic Mail Manual (DMM)

E ELIGIBILITY

E600 Standard Mail

* * * * *

E650 Destination Entry

E651 Regular, Nonprofit, and Enhanced Carrier Route Standard Mail

* * * * *

5.0 DBMC DISCOUNT

5.1 Definition

[Amend 5.1 by replacing “L602” with “E651.5.0 Exhibit 5.1” to read as follows:]

For this standard, destination bulk mail center (DBMC) includes all bulk mail centers (BMCs) and auxiliary service facilities (ASF's) as shown in Exhibit 5.1.

[Add new Exhibit 5.1.]

Exhibit 5.1—BMC/ASF—DBMC Rates
Eligible destination ZIP codes | DBMC pallets
005, 068-079, 085-098, 100-119, 124-127, 340 | BMC NEW JERSEY NJ 00102
010-067, 120-123, 128, 129 | BMC SPRINGFIELD MA 05500
130-136, 140-149 | ASF BUFFALO NY 140
150-168, 260-266, 439-447 | BMC PITTSBURGH PA 15195
080-084, 137-139, 169-199 | BMC PHILADELPHIA PA 19205
200-212, 214-239, 244, 254, 267, 268 | BMC WASHINGTON DC 20499
240-243, 245-249, 270-297, 376 | BMC GREENSBORO NC 27075
298, 300-312, 317-319, 350-352, 354-368, 373, 374, 377-379, 399 | BMC ATLANTA GA 31195
299, 313-316, 320-339, 341, 342, 344, 346, 347, 349 | BMC JACKSONVILLE FL 32099
369-372, 375, 380-397, 700, 701, 703-705, 707, 708, 713, 714, 716, 717, 719-729 | BMC MEMPHIS TN 38999
250-253, 255-259, 400-418, 421, 422, 425-427, 430-433, 437, 438, 448-462, 469-474 | BMC CINCINNATI OH 45900
434-436, 465-468, 480-497 | BMC DETROIT MI 48399
500-516, 520-528, 612, 680, 681, 683-689 | BMC DES MOINES IA 50999
498, 499, 540-551, 553-564, 566 | BMC MPLS/ST PAUL MN 55202
570-577 | ASF SIOUX FALLS SD 570
565, 567, 580-588 | ASF FARGO ND 580
590-599, 821 | ASF BILLINGS MT 590
463, 464, 530-532, 534, 535, 537-539, 600-611, 613 | BMC CHICAGO IL 60808
420, 423, 424, 475-479, 614-620, 622-631, 633-639 | BMC ST LOUIS MO 63299
640, 641, 644-658, 660-662, 664-679, 739 | BMC KANSAS CITY KS 64399
730, 731, 734-738, 740, 741, 743-746, 748, 749 | ASF OKLAHOMA CITY OK 730
706, 710-712, 718, 733, 747, 750-799, 885 | BMC DALLAS TX 75199
690-693, 800-816, 820, 822-831 | BMC DENVER CO 80088
832-834, 836, 837, 840-847, 898, 979 | ASF SALT LAKE CTY UT 840
850, 852, 853, 855-857, 859, 860, 863, 864 | ASF PHOENIX AZ 852
865, 870-875, 877-884 | ASF ALBUQUERQUE NM 870
889-891, 893, 900-908, 910-928, 930-935 | BMC LOS ANGELES CA 90901
894, 895, 897, 936-966 | BMC SAN FRANCISCO CA 94850
835, 838, 970-978, 980-986, 988-994 | BMC SEATTLE WA 98000

[Delete current 5.2 and 5.3 and replace with new 5.2 through 5.5. Redesignate current 5.4 and 5.5 as 5.6 and 5.7.]

5.2 General Eligibility

Pieces in a mailing that meet the standards in 1.0 through 5.0 are eligible for the DBMC rate when they meet all of the following conditions: (1) are deposited at a BMC or ASF, (2) are addressed for delivery to one of the 3-digit ZIP Codes served by the BMC or ASF where deposited that are listed in Exhibit 5.1, and (3) are placed in a tray, sack, or pallet (subject to the standards for the rate claimed) that is labeled to the BMC or ASF where deposited, or labeled to a postal facility within that BMC's or ASF's service area (see Exhibit 5.1). If packages of flats on pallets are reallocated from an ASF pallet to a BMC pallet under M045.6.0, mail for the ASF ZIP Codes placed on the BMC pallet are not eligible for the DBMC rates. DBMC rate mail must also be eligible for Presorted, automation, or Enhanced Carrier Route rates, subject to the corresponding standards for those rates.

5.3 Eligibility for ADC or AADC Sortation

All pieces in an ADC or AADC sack or tray are eligible for the DBMC discount if the ADC or AADC facility ZIP Code (as shown on Line 1 of the corresponding container label) is within the service area of the BMC or ASF as shown in Exhibit 5.1 at which the sack or tray is deposited. All pieces in a palletized ADC package or bundle are eligible for the DBMC discount if the ADC facility that is the destination of the package or bundle (determined by using the label to ZIP Code in Column B of L004) is within the service area of the BMC or ASF at which it is deposited as shown in Exhibit 5.1.

5.4 Eligibility in Mixed ADC or Mixed AADC Containers

Mail in mixed ADC or mixed AADC sacks or trays qualify for the DBMC rates only if all the pieces in the sack or tray are for the service area of the DBMC or DASF as shown in Exhibit 5.1. Mailers who opt to claim the DBMC rates for mail in Mixed ADC or Mixed AADC containers must prepare separate mixed ADC or mixed AADC sacks or trays for pieces eligible for and claimed at the DBMC rate and for pieces not claimed at the DBMC rate. Otherwise applicable restrictions (e.g., minimum volume, number of less-than-full trays) are excepted when necessary to comply with this standard.

5.5 Additional Standards for Machinable Parcels

Additional standards are as follows:

a. Destination BMC/ASF Containers. Machinable parcels palletized under M045 or sacked under M610 may be sorted to destination BMCs under L601 or to destination BMCs and ASFs under L605. When machinable parcels are sorted to both destination BMCs and ASFs under L605, they qualify for DBMC rates under 5.2. Mailers also may opt to sort machinable parcels to only destination BMCs under L601. If machinable parcels are sorted under L601, then only mail for 3-digit ZIP Codes served by a BMC as listed in Exhibit 5.1 are eligible for DBMC rates (i.e., mail for 3-digit ZIP Codes served by an ASF in Exhibit 5.1 is not eligible for DBMC rates, nor is mail for 3-digit ZIP Codes that do not appear on Exhibit 5.1).

b. Mixed BMC Containers. Pieces in mixed BMC sacks or on mixed BMC pallets that are sorted to the origin BMC under M045 or M610 are eligible for the DBMC rates if both of the following conditions are met:

(1) The mixed BMC sack or pallet is entered at the origin BMC facility to which it is labeled.

(2) The pieces are for 3-digit ZIP Codes listed as eligible destination ZIP Codes for that BMC in Exhibit 5.1.

* * * * *

E652 Parcel Post

1.0 BASIC STANDARDS

* * * * *

1.2 General

[Revise 1.2 to read as follows:]

For Parcel Post mailings claimed at DBMC, DSCF, or DDU rates, pieces must meet the applicable standards in 1.0 through 6.0 and the following criteria:

a. May be bedloaded, on pallets, in pallet boxes on pallets, in sacks, or in other authorized containers as specified in 2.0 through 6.0, depending on the facility at which the pieces are deposited.

b. Is not plant-loaded.

c. Be part of a single mailing of 50 or more pieces that are eligible for and claimed at any Parcel Post rate or rates.

d. Be deposited at a destination BMC (DBMC) or destination auxiliary service facility (DASF) or other equivalent facility; destination sectional center (DSCF); or destination delivery unit (DDU) as applicable for the rate claimed and as specified by the USPS.

e. Be addressed for delivery within the ZIP Code ranges that the applicable entry facility serves.

[Revise 1.3 to read as follows:]

1.3 DBMC Rates

For DBMC rates, pieces must meet the applicable standards in 1.0 through 6.0 and the following:

a. Pieces must be part of a Parcel Post mailing that is deposited at a BMC or ASF under L605.

b. Pieces deposited at each BMC or ASF must be addressed for delivery within the ZIP Code range of that facility.

c. Pieces must be addressed for delivery within a ZIP Code eligible for DBMC rates under Exhibit 1.3, and if sacked or palletized must be prepared in accordance with M041 and M045 or M630. Mail meeting the additional criteria in 4.0 may be deposited at a designated facility other than the BMC or ASF where the DBMC parcels would otherwise be deposited.

[Move formerly designated 1.3 (e) and (f) to new section as 1.4 (a) and (b).]

[Add new Exhibit 1.3]

Exhibit 1.3—BMC/ASF—DBMC Rates
Eligible destination ZIP codes | DBMC pallets
005, 068-079, 085-098, 100-119, 124-127, 340 | BMC NEW JERSEY NJ 00102
010-067, 120-123, 128, 129 | BMC SPRINGFIELD MA 05500
130-136, 140-149 | ASF BUFFALO NY 140
150-168, 260-266, 439-447 | BMC PITTSBURGH PA 15195
080-084, 137-139, 169-199 | BMC PHILADELPHIA PA 19205
200-212, 214-239, 244, 254, 267, 268 | BMC WASHINGTON DC 20499
240-243, 245-249, 270-297, 376 | BMC GREENSBORO NC 27075
298, 300-312, 317-319, 350-352, 354-368, 373, 374, 377-379, 399 | BMC ATLANTA GA 31195
299, 313-316, 320-339, 341, 342, 344, 346, 347, 349 | BMC JACKSONVILLE FL 32099
369-372, 375, 380-397, 700, 701, 703-705, 707, 708, 713, 714, 716, 717, 719-729 | BMC MEMPHIS TN 38999
250-253, 255-259, 400-418, 421, 422, 425-427, 430-433, 437, 438, 448-462, 469-474 | BMC CINCINNATI OH 45900
434-436, 465-468, 480-497 | BMC DETROIT MI 48399
500-516, 520-528, 612, 680, 681, 683-689 | BMC DES MOINES IA 50999
498, 499, 540-551, 553-564, 566 | BMC MPLS/ST PAUL MN 55202
570-577 | ASF SIOUX FALLS SD 570
565, 567, 580-588 | ASF FARGO ND 580
590-599, 821 | ASF BILLINGS MT 590
463, 464, 530-532, 534, 535, 537-539, 600-611, 613 | BMC CHICAGO IL 60808
420, 423, 424, 475-479, 614-620, 622-631, 633-639 | BMC ST LOUIS MO 63299
640, 641, 644-658, 660-662, 664-679, 739 | BMC KANSAS CITY KS 64399
730, 731, 734-738, 740, 741, 743-746, 748, 749 | ASF OKLAHOMA CITY OK 730
706, 710-712, 718, 733, 747, 750-799, 885 | BMC DALLAS TX 75199
690-693, 800-816, 820, 822-831 | BMC DENVER CO 80088
832-834, 836, 837, 840-847, 898, 979 | ASF SALT LAKE CTY UT 840
850, 852, 853, 855-857, 859, 860, 863, 864 | ASF PHOENIX AZ 852
865, 870-875, 877-884 | ASF ALBUQUERQUE NM 870
889-891, 893, 900-908, 910-928, 930-935 | BMC LOS ANGELES CA 90901
894, 895, 897, 936-966 | BMC SAN FRANCISCO CA 94850
835, 838, 970-978, 980-986, 988-994 | BMC SEATTLE WA 98000

[Redesignate 1.4 through 1.5 as 1.5 through 1.6 and insert new number 1.4 to read as follows:]

1.4 DSCF and DDU Rates

For DSCF and DDU rates, pieces must meet the applicable standards in 1.0 through 1.6 and the following criteria:

[Insert old 1.3e and 1.3f as new 1.4a and 1.4b.]

* * * * *

L LABELING LISTS

* * * * *

L600 Standard Mail

[Amend the heading of Labeling List 601 by removing “Machinable Parcels” to read as follows:]

L601 Bulk Mail Centers

[Revise introductory paragraph to read as follows:]

Use this list for the following:

(1) Standard Mail (A) machinable parcels if ASF mail is not prepared and claimed at DBMC rates.

(2) Bound Printed Matter machinable parcels.

(3) Parcel Post if ASF mail is not prepared and claimed at DBMC rates except non-machinable BMC and OBMC Presort rate mail.

(4) Presorted Special Standard Mail and Presorted Library Mail to BMC destinations.

* * * * *

[Remove Labeling List 602.]

* * * * *

[Revise the heading of Labeling List 605 to read as follows:]

L605 BMCs/ASFs

[Revise introductory paragraph to read as follows:]

Use this list for the following:

(1) Standard Mail (A) pallets of packages of flats, letter trays, and/or sacks.

(2) Parcel Post machinable parcels if ASF mail is entered at the ASF and claimed at the DBMC rates.

(3) Standard Mail (A) machinable parcels if ASF mail is entered at the ASF and claimed at DBMC rates.

(4) Parcel Post nonmachinable parcels claimed at OBMC and BMC Presort rates.

(5) Bound Printed Matter packages and/or sacks on pallets.

* * * * *

M MAIL PREPARATION AND SORTATION

M000 General Preparation Standards

M010 Mailpieces

M011 Basic Standards

1.0 TERMS AND CONDITIONS

* * * * *

1.2 Presort Levels

[Amend 1.2 by revising 1.2n to read as follows:]

Terms used for presort levels are defined as follows:

* * * * *

n. ASF/BMC: all pieces are addressed for delivery in the service area of the same auxiliary service facility (ASF) or bulk mail center (BMC) (see L601 or L605, as applicable).

* * * * *

M040 Pallets

M041 General Standards

* * * * *

5.0 PREPARATION

5.1 Presort

[Amend 5.1 by revising the last two sentences to read as follows:]

* * * The standards for package reallocation to protect the SCF or BMC pallet (M045.5.0 and 6.0) are optional methods of pallet preparation designed to retain as much mail as possible at the SCF or BMC level. These standards may result in some packages of Periodicals and Standard Mail (A) flats and irregular parcels that are part of a mailing job prepared in part as palletized flats at automation rates not being placed on the finest level of pallet possible. Mailers must use PAVE-certified presort software to prepare mailings using package reallocation (package reallocation is optional, but, if performed, must be done for the complete mailing job).

5.2 Required Preparation

[Amend 5.2 by revising 5.2a to read as follows:]

These standards apply to:

a. Periodicals, Standard Mail (A), and Parcel Post (other than BMC Presort, OBMC Presort, DSCF, and DDU rate mail). A pallet must be prepared to a required sortation level when there are 500 pounds of Periodicals or Standard Mail packages, sacks, or parcels or six layers of Periodicals or Standard Mail (A) letter trays. For packages of Periodicals flats, irregular parcels, and packages of Standard Mail (A) flats on pallets prepared under the standards for package reallocation (M045.5.0), not all mail for a required 5-digit destination is required to be on a 5-digit pallet or optional 5-digit scheme pallet. For packages of Standard Mail (A) flats on pallets prepared under the standards for package reallocation (M045.6.0), not all mail for a required ASF pallet is required to be on an ASF pallet. Mixed pallets of sacks, trays, or machinable parcels must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

* * * * *

6.0 COPALLETIZED, COMBINED, OR MIXED-RATE LEVEL MAILINGS OF FLAT-SIZE MAILPIECES

* * * * *

6.4 Standard Mail (A)

[Amend 6.4 by and replacing the first sentence with the following sentence to read as follows:]

To copalletize different Standard Mail (A) flat-size mailings, the mailer must consolidate on pallets all independently sorted packages from each mailing to achieve the finest presort level for the mailing, except that a copalletized mailing prepared under M045.5.0 or 6.0, using package reallocation, may not always result in all packages being placed on the finest pallet level possible.* * *

* * * * *

M045 Palletized Mailings

* * * * *

4.0 PALLET PRESORT AND LABELING

4.1 Packages, Bundles, Sacks, or Trays on Pallets

[Amend 4.1 by revising 4.1e to read as follows:]

Preparation sequence and Line 1 labeling:

* * * * *

e. As appropriate:

(1) Periodicals: ADC: required; for Line 1, use L004.

(2) Standard Mail: BMC/ASF: required, except that an ASF may not be required if using package reallocation used under 6.0; for Line 1, use L605.

* * * * *

4.2 Machinable Parcels—Standard Mail

[Amend 4.2 by revising 4.2b and 4.2c to read as follow:]

Preparation sequence and Line 1 labeling:

* * * * *

b. ASF: allowed and required only if DBMC rate is claimed for mail deposited at ASF; for Line 1, use L605. Exhibit E651.5.1 or Exhibit E652.1.3 determines DBMC rate eligibility.

c. Destination BMC: required; for Line 1, use L601 (L605 if DBMC rate is claimed for mail deposited at ASF under 4.2b).

* * * * *

[Revise heading of 5.0 to read as follows:]

5.0 PACKAGE REALLOCATION TO PROTECT SCF PALLET FOR PERIODICALS FLATS AND IRREGULAR PARCELS AND STANDARD MAIL (A) FLATS ON PALLETS

5.1 Basic Standards

[Amend 5.1 by revising the first sentence to read as follows:]

Package reallocation to protect the SCF pallet is an optional preparation method (if performed, package reallocation must be done for the complete mailing job); only PAVE-certified presort software may be used to create pallets under the standards in 5.2 through 5.4 * * *

* * * * *

[Redesignate 6.0 through 14.0 as 7.0 through 15.0, respectively, and insert new 6.0 to read as follows:]

6.0 PACKAGE REALLOCATION TO PROTECT BMC PALLET FOR STANDARD MAIL (A) FLATS ON PALLETS

6.1 Basic Standards

Package reallocation to protect the BMC pallet level is an optional preparation method (if performed, package reallocation to protect the BMC pallet must be done for the complete mailing job); only PAVE-certified presort software may be used to create pallets under the standards in 6.2 through 6.4. The software will determine if mail for a BMC service area would fall beyond the BMC level when ASF pallets are prepared. Reallocation is performed only when there is mail for the BMC service area that would fall beyond the BMC pallet level as a result of an ASF pallet being prepared. The amount of mail required to bring the mail that would fall beyond the BMC pallet level back to a BMC level is the minimum volume that would be reallocated from an ASF pallet, where possible. The “parent” BMCs listed in Exhibit 6.1 can be protected with package reallocation by using mail from the ASF “child” pallets.

Exhibit 6.1—“Parent” BMC/Child” ASF
“Parent” BMC service areas | “Child” ASF ZIP code areas served
Pittsburgh BMC | Buffalo ASF: 130-136; 140-149
Denver BMC | Albuquerque ASF: 865, 870-875, 877-884
| Phoenix ASF: 850, 852, 853, 855-857, 859, 860, 863, 864
| Salt Lake City ASF: 832-834, 836, 837, 840-847, 898, 979
| Billings ASF: 590-599, 821
Dallas BMC | Oklahoma City ASF: 730, 731, 734-738, 740, 741, 743-746, 748, 749
Des Moines BMC | Sioux Falls ASF: 570-577
Minneapolis BMC | Fargo ASF: 565, 567, 580-588

6.2 General Reallocation Rules

In general, when reallocating:

a. The reallocation process does not affect package preparation. Reallocate only complete packages and only the minimum number of packages necessary to create a BMC pallet that meets the 250-pound minimum pallet weight. Based on the weight of individual pieces within a package and packaging parameters, the weight of mail that is reallocated may be slightly more than the minimum volume required to create a BMC pallet.

b. Use Exhibit 6.1 to reallocate packages from the ASF pallet to create a BMC pallet. The ASF pallet may be eliminated to protect the BMC pallet.

c. Reallocate mail only from the ASF pallet. Package reallocation is used only between the “parent” BMC and the “child” ASF. Mail from finer levels of pallets (e.g., SCF pallet) may not be reallocated.

d. Mailers may use any minimum pallet weight(s) permitted by standard and may use different minimum weights for different pallet levels in conjunction with package reallocation.

6.3 Reallocation of Packages from ASF pallets

When reallocating packages from ASF pallets:

a. Use Exhibit 6.1 to identify an ASF pallet of adequate weight that can support reallocation of one or more packages to bring the mail that has fallen through the BMC level back to the BMC level without eliminating the ASF pallet. A sufficient amount of mail must remain on the ASF pallet after reallocation to meet the ASF pallet weight minimum of 250 pounds. If an ASF pallet of adequate weight is available, then create a BMC pallet by combining the reallocated mail from the ASF pallet with the mail that would fall beyond the BMC pallet level.

b. If no single ASF pallet within the BMC service area contains an adequate volume of mail to allow reallocation of the portion of the mail on a pallet as described in 6.3a, then eliminate one ASF pallet and reallocate all of the mail to create a BMC pallet.

6.4 Documentation

Mailings must be supported by documentation produced by PAVE-certified software meeting the standards in P012.

* * * * *

10.0 Pallets of Machinable Parcel

* * * * *

[Amend 10.3, formerly 9.3, to read as follows:]

10.3 DBMC Rate

If applicable, a BMC pallet may include pieces that are eligible for the DBMC rate and pieces that are ineligible.

* * * * *

M073 Combined Mailings of Standard Mail (A) and Standard Mail (B) Parcels

1.0 COMBINED MACHINABLE PARCELS—RATES OTHER THAN PARCEL POST OBMC PRESORT, BMC PRESORT, DSCF, AND DDU

* * * * *

1.6 Sack Preparation

[Amend 1.6 by revising 1.6a(2) and 1.6a(3) to read as follows:]

The requirements for sack preparation are as follows:

a. Sack size, preparation sequence, and Line 1 labeling:

* * * * *

(2) Destination ASF: allowed and required only if DBMC rate is claimed for mail deposited at ASF (minimum of 10 pounds, smaller volume not permitted); for Line 1, use L605. DBMC rate eligibility is determined by Exhibit E651.1.3.

(3) Destination BMC: required (minimum of 10 pounds, smaller volume not permitted); for Line 1, use L605 if DBMC rate is claimed for mail deposited at ASF under 4.2b; otherwise, use L601. DBMC rate eligibility is determined by Exhibit E651.5.1.

* * * * *

M610 Presorted Standard Mail (A)

* * * * *

5.0 MACHINABLE PARCELS

* * * * *

5.2 Sack Preparation

[Amend 5.2 by revising 5.2(b) and 5.2(c) to read as follows:]

Sack size, preparation sequence, and Line 1 labeling:

* * * * *

b. Destination ASF: allowed and required only if DBMC rate is claimed for mail deposited at ASF (minimum of 10 pounds, smaller volume not permitted); for Line 1, use L605. DBMC rate eligibility is determined by Exhibit E651.1.3.

c. Destination BMC: required (minimum of 10 pounds, smaller volume not permitted); for Line 1, use L605 if DBMC rate is claimed for mail deposited at ASF under 5.2b; otherwise, use L601. DBMC rate eligibility is determined by Exhibit E651.5.1.

* * * * *

M630 Standard Mail (B)

* * * * *

6.0 MACHINABLE PARCELS

* * * * *

6.2 Sack Preparation

[Amend 6.2 by revising 6.2b and 6.2c to read as follows:]

Sack size, preparation sequence, and Line 1 labeling:

* * * * *

b. ASF: allowed and required only if DBMC rate is claimed for mail deposited at ASF (minimum of 10 pieces/20 pounds/1,000 cubic inches, smaller volume not permitted); for Line 1, use L605. Exhibit E652.1.3d determines DBMC rate eligibility.

c. Destination BMC: required (minimum of 10 pieces/20 pounds/1,000 cubic inches, smaller volume not permitted); for Line 1, use L605 if DBMC rate is claimed for mail deposited at ASF under 6.2b; otherwise, use L601. Exhibit E652.1.3d determines DBMC rate eligibility.

* * * * *

P POSTAGE AND PAYMENT METHODS

P000 Basic information

P010 General Standards

* * * * *

P012 Documentation

* * * * *

2.0 STANDARDIZED DOCUMENTATION—FIRST-CLASS MAIL, PERIODICALS, AND STANDARD MAIL (A)

* * * * *

2.2 Format and Content

[Amend 2.2 by replacing last two sentences of 2.2d (4) to read as follows:]

For First-Class Mail, Periodicals, and Standard Mail (A), standardized documentation includes:

* * * * *

d. For packages on pallets, the body of the listing reporting these required elements:

* * * * *

(4) * * * Document SCF or BMC pallets created as a result of package reallocation under M045.5.0 or 6.0 on the USPS Qualification Report by designating the protected pallet with an identifier of “PSCF” (for a SCF pallet) or “PBMC” (for a BMC pallet). These identifiers are required to appear only on the USPS Qualification Report; they are not required to appear on pallet labels or in any other mailing documentation.

* * * * *

2.4 Sortation level

[Amend 2.4 by inserting new sortation level and abbreviation immediately below “SCF [pallets created from package reallocation]” to read as follows:]

The actual sortation level (or corresponding abbreviation) is used for the package, tray, sack, or pallet levels required by 2.2 and shown below:

Sortation level | Abbreviation
* * * * *
BMC [pallets created from package reallocation] | PBMC
* * * * *

Stanley F. Mires,
Chief Counsel, Legislative.

[FR Doc. 00-12444 Filed 5-18-00; 8:45 am]

BILLING CODE 7710-12-P